GENERAL SERVICES ADMINISTRATION

[Notice-MA-2019-06; Docket No. 2019-0002, Sequence No. 13]

Federal Travel Regulation (FTR); Relocation Allowances—Relocation Income Tax Allowance (RITA) Tables

AGENCY: Office of Government-wide Policy (OGP), General Services Administration (GSA).

ACTION: Notice.

SUMMARY: The purpose of this notice is to inform agencies that FTR Bulletin 19-05 pertaining to Relocation Allowances—Relocation Income Tax Allowance (RITA) Tables for employees who relocated prior to 2015 with reimbursements received in 2018 and new procedures for employees who relocated prior to 2015 with reimbursements received in 2019 or later is now available online at www.gsa.gov/ftrbulletin.

DATES: Applicable: This notice is applicable beginning July 2, 2019.

FOR FURTHER INFORMATION CONTACT: Mr. Rick Miller, Office of Asset and Transportation Management (MA), at 202-501-3822 or via email at rodney.miller@gsa.gov. Please cite FTR Bulletin 19-05.

SUPPLEMENTARY INFORMATION: FTR Bulletin 19-05: Relocation Allowances—Relocation Income Tax Allowance (RITA) Tables for employees who relocated prior to 2015 with reimbursements received in 2018 and new procedures for employees who relocated prior to 2015 with reimbursements received in 2019 or later is now available and (1) provides the tables necessary to calculate the amount of a transferee's increased tax burden for employees who relocated before January 1, 2015 and received reimbursements during calendar year 2018; (2) informs agencies that for employees who relocated before January 1, 2015, and receive(d) reimbursements in calendar year 2019 or later, GSA has determined that agencies will follow the same procedures for those that relocated after January 1, 2015 in accordance with the current issuance of FTR Part 302-17; and (3) notifies agencies that GSA will no longer issue annual FTR Bulletins for RITA tax tables because all relocations with reimbursements received in 2019 or later will use tables published by the U.S. Internal Revenue Service (IRS), state/district, Puerto Rico, and local tax authorities to compute combined marginal tax rates.

FTR Bulletin 19-05 and all other FTR Bulletins can be found at www.gsa.gov/ftrbulletin.

Jessica Salmoiraghi,
Associate Administrator, Office of Government-wide Policy.

[FR Doc. 2019-14063 Filed 7-1-19; 8:45 am]

BILLING CODE 6820-14-P